NUCLEAR REGULATORY COMMISSION

[NRC-2009-0578]

Notice of Availability of a Memorandum of Understanding Between the Nuclear Regulatory Commission and the Bureau of Land Management

AGENCY: Nuclear Regulatory Commission.

ACTION: Notice of Availability.

FOR FURTHER INFORMATION CONTACT: Mr. Alan Bjornsen, Project Manager, Environmental Review Branch, Division of Waste Management and Environmental Protection, Office of Federal and State Materials and Environmental Management Programs, U.S. Nuclear Regulatory Commission, Rockville, Maryland 20852, Telephone: 301-415-1195, fax number: 301-415-5369; e-mail: Alan.Bjornsen@nrc.gov.

SUPPLEMENTARY INFORMATION:

I. Introduction

The Nuclear Regulatory Commission (NRC) and the Bureau of Land Management (BLM) have finalized a Memorandum of Understanding (MOU) to define the cooperative working relationship between the agencies in each agency's preparation of National Environmental Policy Act (NEPA) documents related to the extraction of uranium and thorium on public lands administered by BLM. The MOU was finalized on November 30, 2009. The MOU will improve the interagency communications, facilitate the sharing of special expertise and information, and coordinate the preparation of studies, reports and environmental (NEPA) documents.

II. Summary

The MOU provides a framework for this cooperative relationship and identifies the responsibilities of each agency. The intent of the MOU is to improve interagency communications, facilitate the sharing of special expertise and information, and coordinate the preparation of studies, reports and environmental (NEPA) documents associated with NRC licensing actions and the BLM administration of public lands. The implementation of the MOU will occur through periodic meetings between the NRC and BLM management to ensure coordination, establishing points of contact at each agency, identifying information gaps that can be filled by each agency, and ensuring that specific environmental resources issues of interest to each agency are covered in each environmental review. To the fullest extent possible, NRC and BLM will participate either as lead agency, co-lead or cooperating agency on the preparation of site-specific environmental documents.

III. Further Information

Federal Rulemaking Web site: Go to http://www.regulations.gov and search for documents filed under Docket ID NRC-2009-0578. Address questions about NRC documents to Carol Gallagher, 301-492-3668; e-mail Carol.Gallagher@nrc.gov.

Publicly available documents related to this notice can be accessed using the following methods:

NRC's Public Document Room (PDR): The public may examine and have copied, for a fee, publicly available documents at the NRC's PDR, Public File Area 01 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The “Memorandum of Understanding between the Bureau of Land Management, Department of the Interior and the Nuclear Regulatory Commission, an Independent Agency” is available electronically under ADAMS Accession Number ML093430195.

Dated at Rockville, Maryland, this 31st day of December 2009.
For the Nuclear Regulatory Commission.
Patrice M. Bubar,
Deputy Director, Environmental Protection and Performance Assessment Directorate, Division of Waste Management and Environmental Protection, Office of Federal and State Materials and Environmental Management Programs.

[FR Doc. 2010-116 Filed 1-7-10; 8:45 am]

BILLING CODE 7590-01-P